DEPARTMENT OF TRANSPORTATION

Coast Guard

33 CFR Part 117

[CGD07-02-145]

Drawbridge Operation Regulations; Atlantic Avenue Bridge (SR 806), Atlantic Intracoastal Waterway, Mile 1039.6, Delray Beach, Palm Beach County, FL

AGENCY: Coast Guard, DOT.

ACTION: Notice of temporary deviation from regulations.

SUMMARY: The Commander, Seventh Coast Guard District, has approved a temporary deviation from the regulations governing the operation of the Atlantic Avenue bridge (SR 806), across the Atlantic Intracoastal Waterway, mile 1039.6, Delray Beach, Palm Beach County, Florida. This deviation allows the bridge owner or operator to keep a single-leaf of the drawbridge in the closed position. A double-leaf opening is available if at least 12 hours notice is provided to the bridge tender. This deviation is necessary to facilitate repairs to the bridge.

DATES: This deviation is effective from 8 p.m. on December 9, 2002, until 11:59 p.m. on December 31, 2002.

ADDRESSES: Materials received from the public, as well as documents indicated in this preamble as being available in the docket, will become part of this docket and will be available for inspection or copying at Commander (obr), Seventh Coast Guard District, 909 SE. 1st Avenue, Room 432, Miami, Florida 33131 between 7:30 a.m. and 4 p.m., Monday through Friday, except Federal holidays.

FOR FURTHER INFORMATION CONTACT: Mr. Michael Lieberum, Project Manager, Seventh Coast Guard District, Bridge Branch at (305) 415-6744.

SUPPLEMENTARY INFORMATION: The existing regulations in 33 CFR 117.261(aa) governing the operation of the Atlantic Avenue bridge (SR 806), mile 1039.6, at Delray Beach, Florida, allow the draw to open on signal, except that, from November 1 through May 31 from 10 a.m. to 6 p.m., Monday through Friday, the draw need open only on the hour, and half hour. This bridge provides a horizontal clearance of 45 feet between the fender and the down span.

Quinn Construction requested on September 30, 2002, that the Coast Guard allow it to keep a single-leaf of the bridge in the closed position from 8 p.m. on December 9, 2002, until 11:59 p.m. on December 31, 2002, to facilitate repairs to the bridge spans.

The District Commander granted a deviation from the operating requirements listed in 33 CFR 117.261(aa) to allow Quinn Construction, representing the owner, to facilitate repairs to the bridge spans. Under this deviation, one leaf of the Atlantic Avenue bridge may remain in the closed position from 8 p.m. on December 9, 2002, until 11:59 p.m. on December 31, 2002. A double-leaf opening is available if 12 hours notice is provided to the bridge tender.

In accordance with 33 CFR 117.35(c), this work will be performed with all due speed in order to return the bridge to normal operation as soon as possible.

Dated: November 25, 2002.
Greg Shapley,
Chief, Bridge Administration, Seventh Coast Guard District.

[FR Doc. 02-30738 Filed 12-3-02; 8:45 am]

BILLING CODE 4910-15-P